DEPARTMENT OF COMMERCE

National Oceanic and Atmospheric Administration

Agency Information Collection Activities; Submission to the Office of Management and Budget (OMB) for Review and Approval; Comment Request; NWS Extreme Heat Social and Behavioral Sciences Research

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 6, 2023 (88 FR 1058) during a 60-day comment period. This notice allows for an additional 30 days for public comments.

Agency: National Oceanic & Atmospheric Administration (NOAA), Commerce.

Title: NWS Extreme Heat Social and Behavioral Sciences Research.

OMB Control Number: 0648-XXXX.

Form Number(s): None.

Type of Review: Regular (New information collection).

Needs and Uses: This is a request for a new information collection.

Heat continues to be the leading weather-related killer with the Centers for Disease Control and Prevention (CDC) estimating more than 700 deaths a year resulting from heat exposure. The National Weather Service (NWS) needs to bridge the gap between physical science information and how it is received and acted upon by its public and partners. As such, this collection is critical in expanding NWS knowledge of public perception and understanding of heat to inform and improve national and local level heat communication and messaging. It is mission-critical for NWS to get their information out effectively, particularly to those most at risk including children, older adults, people experiencing homelessness, people with pre-existing conditions, indoor and outdoor workers, emergency responders, incarcerated people, low income communities, pregnant people, and athletes.

The information will be used to improve heat-related products and services. Specifically, the information collected will be used to improve the NWS' national and local level heat communication and messaging. Information collected will also improve resources provided through Heat.gov, which is the webportal for the National Integrated Heat Health Information System (NIHHIS).

This study is permitted by the Weather Research and Forecasting Innovation Act of 2017 which calls on NOAA to “improve the understanding of how the public receives, interprets, and responds to warnings and forecasts of high impact weather events that endanger life and property.” It also addresses Executive Order 13985, Advancing Racial Equity and Support for Underserved Communities Through the Federal Government. The study addresses the NOAA FY22-26 Strategic Plan.

Affected Public: Individuals or households; Business or other for-profit organizations; Not-for-profit institutions; Federal, State, Local, or Tribal government; Academic institutions.

Estimated Number of Respondents: 1048.

Estimated Time per Response:

• Focus Group: 90 minutes

• Survey: 15 minutes

Estimated Total Annual Burden Hours: 322.

Estimated Total Annual Cost to Public: None.

Respondent's Obligation: Voluntary.

Legal Authority: 15 U.S.C. Ch. 111, Weather Research and Forecasting Information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2023-14099 Filed 7-3-23; 8:45 am]

BILLING CODE 3510-KE-P